NUCLEAR REGULATORY COMMISSION

[NRC-2014-0054]

Applications and Amendments to Facility Operating Licenses and Combined Licenses Involving Proposed No Significant Hazards Considerations and Containing Sensitive Unclassified Non-Safeguards Information and Order Imposing Procedures for Access to Sensitive Unclassified Non-Safeguards Information

AGENCY: Nuclear Regulatory Commission.

ACTION: License amendment request; opportunity to comment, request a hearing, and petition for leave to intervene; order.

SUMMARY: The U.S. Nuclear Regulatory Commission (NRC) received and is considering approval of six amendment requests. The amendment requests are for Columbia Generating Station; Comanche Peak Nuclear Power Plant, Units 1 and 2; Fort Calhoun Station, Unit 1; South Texas Project, Units 1 and 2; Browns Ferry Nuclear Plant, Units 1, 2, and 3; and Wolf Creek Generating Station. For each amendment request, the NRC proposes to determine that they involve no significant hazards consideration. In addition, each amendment request contains sensitive unclassified non-safeguards information (SUNSI).

DATES: Comments must be filed by May 8, 2014. A request for a hearing must be filed by June 9, 2014. Any potential party as defined in § 2.4 of Title 10 of the Code of Federal Regulations (10 CFR), who believes access to SUNSI is necessary to respond to this notice must request document access by April 18, 2014.

ADDRESSES: You may submit comments by any of the following methods (unless this document describes a different method for submitting comments on a specific subject):

• Federal Rulemaking Web site: Go to http://www.regulations.gov and search for Docket ID NRC-2014-0054. Address questions about NRC dockets to Carol Gallagher; telephone: 301-287-3422; email: Carol.Gallagher@nrc.gov.

• Mail comments to: Cindy Bladey, Chief, Rules, Announcements, and Directives Branch (RADB), Office of Administration, Mail Stop: 3WFN-06-44M, U.S. Nuclear Regulatory Commission, Washington, DC 20555-0001.

For additional direction on accessing information and submitting comments, see “Accessing Information and Submitting Comments” in the SUPPLEMENTARY INFORMATION section of this document.

SUPPLEMENTARY INFORMATION:

I. Accessing Information and Submitting Comments

A. Accessing Information

Please refer to Docket ID NRC-2014-0054 when contacting the NRC about the availability of information regarding this document. You may access publicly-available information related to this document by any of the following methods:

• Federal Rulemaking Web site: Go to http://www.regulations.gov and search for Docket ID NRC-2014-0054.

• NRC's Agencywide Documents Access and Management System (ADAMS): You may access publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland, 20852.

B. Submitting Comments

Please include Docket ID NRC-2014-0054 in the subject line of your comment submission, in order to ensure that the NRC is able to make your comment submission available to the public in this docket.

The NRC cautions you not to include identifying or contact information that you do not want to be publicly disclosed in you comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Background

Pursuant to Section 189a.(2) of the Atomic Energy Act of 1954, as amended (the Act), the NRC is publishing this notice. The Act requires the Commission to publish notice of any amendments issued, or proposed to be issued and grants the Commission the authority to issue and make immediately effective any amendment to an operating license or combined license, as applicable, upon a determination by the Commission that such amendment involves no significant hazards consideration, notwithstanding the pendency before the Commission of a request for a hearing from any person.

This notice includes notices of amendments containing SUNSI.

Notice of Consideration of Issuance of Amendments to Facility Operating Licenses and Combined Licenses, Proposed No Significant Hazards Consideration Determination, and Opportunity for a Hearing

The Commission has made a proposed determination that the following amendment requests involve no significant hazards consideration. Under the Commission's regulations in 10 CFR 50.92, this means that operation of the facility in accordance with the proposed amendment would not (1) involve a significant increase in the probability or consequences of an accident previously evaluated, or (2) create the possibility of a new or different kind of accident from any accident previously evaluated, or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Within 60 days after the date of publication of this notice, any person(s) whose interest may be affected by this action may file a request for a hearing and a petition to intervene with respect to issuance of the amendment to the subject facility operating license or combined license. Requests for a hearing and a petition for leave to intervene shall be filed in accordance with the Commission's “Agency Rules of Practice and Procedure” in 10 CFR Part 2. Interested person(s) should consult a current copy of 10 CFR 2.309, which is available at the NRC's PDR, located at One White Flint North, Room O1-F21, 11555 Rockville Pike (first floor), Rockville, Maryland, 20852. The NRC's regulations are accessible electronically from the NRC Library on the NRC's Web site at http://www.nrc.gov/reading-rm/doc-collections/cfr/. If a request for a hearing or petition for leave to intervene is filed within 60 days, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also set forth the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing.

If a hearing is requested, and the Commission has not made a final determination on the issue of no significant hazards consideration, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, then any hearing held would take place before the issuance of any amendment.

III. Electronic Submissions (E-Filing)

All documents filed in NRC adjudicatory proceedings, including a request for hearing, a petition for leave to intervene, any motion or other document filed in the proceeding prior to the submission of a request for hearing or petition to intervene, and documents filed by interested governmental entities participating under 10 CFR 2.315(c), must be filed in accordance with the NRC's E-Filing rule (72 FR 49139; August 28, 2007). The E-Filing process requires participants to submit and serve all adjudicatory documents over the internet, or in some cases to mail copies on electronic storage media. Participants may not submit paper copies of their filings unless they seek an exemption in accordance with the procedures described below.

To comply with the procedural requirements of E-Filing, at least ten 10 days prior to the filing deadline, the participant should contact the Office of the Secretary by email at hearing.docket@nrc.gov, or by telephone at 301-415-1677, to (1) request a digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/apply-certificates.html. System requirements for accessing the E-Submittal server are detailed in the NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange System, users will be required to install a Web browser plug-in from the NRC's Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with NRC guidance available on the NRC's public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the NRC's adjudicatory E-Filing system may seek assistance by contacting the NRC Meta System Help Desk through the “Contact Us” link located on the NRC's public Web site at http://www.nrc.gov/site-help/e-submittals.html, by email to MSHD.Resource@nrc.gov, or by a toll-free call at 866-672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. However, a request to intervene will require including information on local residence in order to demonstrate a proximity assertion of interest in the proceeding. With respect to copyrighted works, except for limited excerpts that serve the purpose of the adjudicatory filings and would constitute a Fair Use application, participants are requested not to include copyrighted materials in their submission.

Petitions for leave to intervene must be filed no later than 60 days from the date of publication of this notice. Requests for hearing, petitions for leave to intervene, and motions for leave to file new or amended contentions that are filed after the 60-day deadline will not be entertained absent a determination by the presiding officer that the filing demonstrates good cause by satisfying the three factors in 10 CFR 2.309(c)(1)(i)-(iii).

For further details with respect to this amendment action, see the application for amendment which is available for public inspection at the NRC's PDR, located at One White Flint North, Room O1-F21, 11555 Rockville Pike (first floor), Rockville, Maryland, 20852. Publicly available documents created or received at the NRC are accessible electronically through ADAMS in the NRC Library at http://www.nrc.gov/reading-rm/adams.html. If you do not have access to ADAMS or if there are problems in accessing the documents located in ADAMS, contact the PDR's Reference staff at 1-800-397-4209, 301-415-4737, or by email to pdr.resource@nrc.gov.

Energy Northwest, Docket No. 50-397, Columbia Generating Station, Benton County, Washington

Date of amendment request: October 31, 2013. A publicly-available version is in ADAMS under Accession No. ML13316A009.

Description of amendment request: This amendment request contains sensitive unclassified non-safeguards information (SUNSI). The amendment would revise Technical Specification (TS) Surveillance Requirements (SRs) 3.5.1.4 and 3.5.2.5 for the Low-Pressure Core Spray (LPCS) and Low-Pressure Coolant Injection (LPCI) pump flows.

Basis for proposed no significant hazards consideration determination: As required by 10 CFR 50.91(a), the licensee has provided its analysis of the issue of no significant hazards consideration, which is presented below:

1. Does the proposed amendment involve a significant increase in the probability or consequences of an accident previously evaluated?

Response: No.

The proposed change would lower the required LPCI and LPCS flow rates in SR 3.5.1.4 and 3.5.2.5. The requested changes do not serve as initiators of any Columbia accident previously evaluated. The existing ECCS-LOCA [emergency core cooling system—loss-of-coolant accident] fuel analysis of record utilizes reduced analytical flow rates that bound the proposed TS LPCI and LPCS flow rates. The analysis demonstrates compliance with the ECCS acceptance criteria in 10 CFR 50.46. The new minimum ECCS flow containment analysis also utilizes reduced analytical flow rates that bound the proposed TS LPCI and LPCS flow rates. This analysis demonstrates that the results of the analysis do not exceed the design values specified in the FSAR [final safety analysis report], which is consistent with the acceptance criteria specified in SRP [Standard Review Plan, NUREG-0800] 6.2.1.1.C. The accident probabilities are unaffected and the consequences remain unchanged.

Therefore, there is no significant increase in the probability or consequences of an accident previously evaluated.

2. Does the proposed amendment create the possibility of a new or different kind of accident from any accident previously analyzed?

Response: No.

There are no postulated hazards, new or different, contained in this amendment. Analysis has determined that these changes have been bounded by previous evaluations.

Therefore, the proposed change does not create the possibility of a new or different kind of accident from any accident previously evaluated.

3. Does the proposed amendment involve a significant reduction in a margin of safety?

Response: No.

The proposed changes lower the TS SR flows for LPCI and LPCS by 3 [percent] and 2 [percent], respectively. The analytical values for the LPCI and LPCS flows were reduced by 5 [percent] and 10 [percent], respectively, to ensure no margin of safety was impacted. To ensure a bounding calculation, the minimum ECCS flow containment analysis was performed with conservative assumptions and using NRC approved methodologies previously accepted for use at Columbia by the NRC. The proposed TS limiting flow rates provide adequate margin to the analytical limits accounting for worst-case instrument uncertainty and potential variation in supply voltage and frequency.

Therefore, the proposed change does not involve a significant reduction in the margin of safety.

The NRC staff has reviewed the licensee's analysis and, based on this review, it appears that the three standards of 10 CFR 50.92(c) are satisfied. Therefore, the NRC staff proposes to determine that the amendment request involves no significant hazards consideration.

Attorney for licensee: William A. Horin, Esq., Winston & Strawn, 1700 K Street NW., Washington, DC 20006-3817.

NRC Branch Chief: Michael T. Markley.

Luminant Generation Company, LLC, Docket Nos. 50-445 and 50-446, Comanche Peak Nuclear Power Plant, Units 1 and 2, Somervell County, Texas

Date of amendment request: November 21, 2013, as supplemented by letter dated February 4, 2014. Publicly-available versions of the letters dated November 21, 2013, and February 4, 2014, are available in ADAMS under Accession Nos. ML13338A436 and ML14051A531.

Brief description of amendment: This amendment request contains sensitive unclassified non-safeguards information (SUNSI). The amendment would revise the physical protection license condition in the existing facility operating licenses and the Cyber Security Plan (CSP) Milestone 8 full implementation date as set forth in the Comanche Peak Nuclear Power Plant (CPNPP), Units 1 and 2, CSP Implementation Schedule approved by the NRC staff by letter dated July 26, 2011 (ADAMS Accession No. ML111780745).

Basis for proposed no significant hazards consideration determination: As required by 10 CFR 50.91(a), the licensee has provided its analysis of the issue of no significant hazards consideration, which is presented below:

1. Do the proposed changes involve a significant increase in the probability or consequences of an accident previously evaluated?

Response: No.

The amendment proposes a change to the CPNPP [Units 1 and 2], Cyber Security Plan (CSP) Milestone 8 full implementation date as set forth in the CPNPP Cyber Security Plan Implementation Schedule. The revision of the full implementation date for the CPNPP Cyber Security Plan does not involve modifications to any safety-related structures, systems or components (SSCs). Rather, the implementation schedule provides a timetable for fully implementing the CPNPP CSP. The CSP describes how the requirements of 10 CFR 73.54 are to be implemented to identify, evaluate, and mitigate cyber attacks up to and including the design basis cyber attack threat, thereby achieving high assurance that the facility's digital computer and communications systems and networks are protected from cyber attacks. The revision of the CPNPP Cyber Security Plan Implementation Schedule will not alter previously evaluated design basis accident analysis assumptions, add any accident initiators, modify the function of the plant safety-related SSCs, or affect how any plant safety-related SSCs are operated, maintained, modified, tested, or inspected.

Therefore, the proposed changes do not involve a significant increase in the probability or consequences of an accident previously evaluated.

2. Do the proposed changes create the possibility of a new or different kind of accident from any accident previously evaluated?

Response: No.

The implementation of the CPNPP Cyber Security Plan does not introduce new equipment that could create a new or different kind of accident, and no new equipment failure modes are created. No new accident scenarios, failure mechanisms, or limiting single failures are introduced as a result of this proposed amendment.

Therefore, the proposed change does not create the possibility of a new or different kind of accident from any previously evaluated.

3. Do the proposed changes involve a significant reduction in a margin of safety?

Response: No.

The margin of safety is associated with the confidence in the ability of the fission product barriers (i.e., fuel cladding, reactor coolant pressure boundary, and containment structure) to limit the level of radiation to the public. The proposed amendment does not alter the way any safety-related SSC functions and does not alter the way the plant is operated. The Cyber Security Plan provides assurance that safety-related SSCs are protected from cyber attacks. The proposed amendment does not introduce any new uncertainties or change any existing uncertainties associated with any safety limit. The proposed amendment has no effect on the structural integrity of the fuel cladding, reactor coolant pressure boundary, or containment structure. Based on the above considerations, the proposed amendment would not degrade the confidence in the ability of the fission product barriers to limit the level of radiation to the public.

Therefore, the proposed change does not involve a reduction in a margin of safety.

The NRC staff has reviewed the licensee's analysis and, based on this review, it appears that the three standards of 10 CFR 50.92(c) are satisfied. Therefore, the NRC staff proposes to determine that the amendment request involves no significant hazards consideration.

Attorney for licensee: Timothy P. Matthews, Esq., Morgan, Lewis and Bockius, 1111 Pennsylvania Avenue NW., Washington, DC 20004.

NRC Branch Chief: Michael T. Markley.

Omaha Public Power District, Docket No. 50-285, Fort Calhoun Station (FCS), Unit 1, Washington County, Nebraska

Date of amendment request: August 5, 2013, as supplemented by letter dated January 24, 2014. Publicly-available versions of the letters dated August 5, 2013, and January 24, 2014, are in ADAMS under Accession Nos. ML13220A074 and ML14030A591.

Description of amendment request: This amendment request contains sensitive unclassified non-safeguards information (SUNSI). The amendment would revise the structural design basis for the reactor coolant system piping described in Section 4.3.6 of the Fort Calhoun Station Updated Safety Analysis Report. The amendment request is related to the leak-before-break (LBB) application for the reactor coolant system piping. To satisfy one of the commitments as part of its license renewal application, the licensee submitted a plant-specific LBB analysis before the period of extended operation, which began at midnight, August 9, 2013.

Basis for proposed no significant hazards consideration determination: As required by 10 CFR 50.91(a), the licensee has provided its analysis of the issue of no significant hazards consideration, which is presented below:

1. Does the proposed change involve a significant increase in the probability or consequences of an accident previously evaluated?

Response: No.

The overall performance of protection systems remains within the bounds of the accident analyses. The design of the reactor protective system (RPS) and engineered safety feature actuation system (ESFAS) are unaffected and these systems will continue to function consistent with their design basis. Design, material, and construction standards are maintained.

At FCS, the bounding accident for pipe breaks is a large break loss-of-coolant accident (LBLOCA). The consequences of a LBLOCA have been previously evaluated and found acceptable. Since the attached leak-before-break (LBB) methodology verifies the integrity of reactor coolant system (RCS) piping, the probability of a previously evaluated accident is not increased. The application of the LBB methodology does not change the dose analysis associated with a LBLOCA, and therefore, does not affect the consequences of an accident. The proposed amendment will not alter any assumptions or change any mitigation actions in the radiological consequence evaluations in the Updated Safety Analysis Report (USAR).

Therefore, the proposed amendment does not involve a significant increase in the probability or consequences of an accident previously evaluated.

2. Does the proposed amendment create the possibility of a new or different kind of accident from any accident previously evaluated?

Response: No.

No new accident scenarios, failure mechanisms, or single failures are introduced because of the proposed change. All systems, structures, and components (SSCs) required for the mitigation of an event remain capable of performing their design function. The proposed change has no adverse effects on any safety-related SSC and does not challenge the performance or integrity of any safety-related SSC. The methods by which safety-related SSCs perform their safety functions are unchanged. This amendment will not affect the normal method of power operation or change any operating parameters.

Therefore, the proposed change does not create the possibility of a new or different kind of accident from any accident previously evaluated.

3. Does the proposed amendment involve a significant reduction in a margin of safety?

Response: No.

The proposed change does not involve a significant reduction in a margin of safety because the proposed changes do not reduce the margin of safety described in the FCS Technical Specifications or USAR. The proposed amendment does not involve a change to any of the fission product barriers (i.e., fuel cladding, reactor coolant system or the containment building). The operability requirements of the Technical Specifications are consistent with the initial condition assumptions of the safety analyses. The proposed change does not affect any Technical Specification limiting conditions for operation (LCO) requirements.

This proposed amendment uses LBB technology combined with leakage monitoring to show that it is acceptable to exclude the dynamic effects of pipe ruptures resulting from postulated breaks in the reactor coolant primary loop piping from consideration in the structural design basis for the period of extended operation. The attached Westinghouse report demonstrates that the LBB margins discussed in NUREG-1061, Volume 3 are satisfied.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: David A. Repka, Esq., Winston & Strawn, 1700 K Street, NW., Washington, DC 20006-3817.

NRC Branch Chief: Michael T. Markley.

STP Nuclear Operating Company, Docket Nos. 50-498 and 50-499, South Texas Project, Units 1 and 2, Matagorda County, Texas

Date of amendment request: January 6, 2014. A publicly-available version is in ADAMS under Accession No. ML14035A075.

Description of amendment request: This amendment request contains sensitive unclassified non-safeguards information (SUNSI). The proposed license amendment would revise Technical Specification (TS) 3.3.1, “Reactor Trip System Instrumentation,” with respect to the required actions and allowed outage times for inoperable reactor trip breakers. The proposed changes would revise the required actions to enhance plant reliability by reducing exposure to unnecessary shutdowns and increase operational flexibility by allowing more time to make required repairs for inoperable reactor trip breakers consistent with allowed outage times for associated logic trains. No modifications to setpoint actuations, trip setpoint, surveillance requirements or channel response that would affect the safety analyses are associated with the proposed changes.

The proposed changes are consistent with requirements generically approved as part of NUREG-1431, Standard Technical Specifications, Westinghouse Plants, Revision 4 (TS 3.3.1, “Reactor Trip System Instrumentation”) (see http://www.nrc.gov/reading-rm/doc-collections/nuregs/staff/sr1431/). Justification for the proposed changes is based on Westinghouse Topical Report, WCAP-15376-P-A, Revision 1, “Risk-Informed Assessment of the RTS [Reactor Trip System] and ESFAS [Engineered Safety Feature Actuation System] Surveillance Test Intervals and Reactor Trip Breaker Test and Completion Times,” March 2003 (not publicly available).

Basis for proposed no significant hazards consideration determination: As required by 10 CFR 50.91(a), the licensee has provided its analysis of the issue of no significant hazards consideration, which is presented below:

1. Does the proposed change involve a significant increase in the probability or consequences of an accident previously evaluated?

Response: No.

The overall reactor trip breaker performance will remain within the bounds of the previously performed accident analyses since no hardware changes are proposed. The reactor trip breakers will continue to function in a manner consistent with the plant design basis.

The proposed changes do not introduce any new accident initiators, and therefore do not increase the probability of any accident previously evaluated. There will be no degradation in the performance of or an increase in the number of challenges imposed on safety-related equipment assumed to function during an accident situation. There will be no change to normal plant operating parameters or accident mitigation performance. The proposed changes will not alter any assumptions or change any mitigation actions in the radiological consequence evaluations in the Updated Final Safety Analysis Report.

The determination that the results of the proposed changes are acceptable was established in the NRC Safety Evaluation (issued by letter dated December 20, 2002) prepared for WCAP-15376-P-A, “Risk-Informed Assessment of the RTS and ESFAS Surveillance Test Intervals and Reactor Trip Breaker Test and Completion Times.” Implementation of the proposed changes will result in an insignificant risk impact.

Applicability of these conclusions has been verified through plant-specific reviews and implementation of the generic analysis results in accordance with the respective NRC Safety Evaluation conditions.

Therefore, the proposed changes do not increase the probability or consequences of an accident previously evaluated.

2. Does the proposed change create the possibility of a new or different kind of accident from any accident previously evaluated?

Response: No.

The proposed changes do not result in a change in the manner in which the Reactor Trip Breakers provide plant protection. The proposed changes do not change the response of the plant to any accidents. No design changes are associated with the proposed changes.

The changes do not involve a physical alteration of the plant (i.e., no new or different type of equipment will be installed) or a change in the methods governing normal plant operation. No new accident scenarios, transient precursors, failure mechanisms, or limiting single failures are introduced as a result of the proposed changes.

Therefore, the proposed changes do not create the possibility of a new or different kind of accident from any accident previously analyzed.

3. Does the proposed change involve a significant reduction in a margin of safety?

Response: No.

The proposed changes do not alter the manner in which safety limits, limiting safety system settings or limiting conditions for operation are determined. The safety analysis acceptance criteria as stated in the Updated Final Safety Analysis Report are not impacted by these changes. Redundant Reactor Trip Breaker features and diverse trip features for each Reactor Trip Breaker are maintained. All signals credited as primary or secondary, and all operator actions credited in the accident analyses are unaffected by the proposed change. The proposed changes will not result in plant operation in a configuration outside the design basis. The proposed changes should enhance plant reliability by reducing exposure to unnecessary shutdowns and increase operational flexibility by allowing more time to make required repairs for inoperable reactor trip breakers. The calculated impact on risk is insignificant and meets the acceptance criteria contained in NRC Regulatory Guides 1.174 and 1.177.

Therefore, the proposed changes do not result in a significant reduction in a margin of safety.

The NRC staff has reviewed the licensee's analysis and, based on this review, it appears that the standards of 10 CFR 50.92(c) are satisfied. Therefore, the NRC staff proposes to determine that the request for amendment involves no significant hazards consideration.

Attorney for licensee: A. H. Gutterman, Esq., Morgan, Lewis & Bockius, 1111 Pennsylvania Avenue NW, Washington, DC 20004.

NRC Branch Chief: Michael T. Markley.

Tennessee Valley Authority (TVA), Docket Nos. 50-259, 50-260, and 50-296, Browns Ferry Nuclear Plant, Units 1, 2, and 3, Limestone County, Alabama

Date of amendment request: November 22, 2013. A publicly-available version is in ADAMS under Accession No. ML14015A403.

Description of amendment request: This amendment request contains sensitive unclassified non-safeguards information (SUNSI). The TVA, in its letter dated August 30, 2013 (ADAMS Accession No. ML13268A421), identified the Alternative Leakage Treatment (ALT) Pathway as being in a nonconforming/degraded condition. The TVA's corrective actions that were outlined to change the ALT Pathway included modification of licensing documents to show lower individual and total leakage rates through the main steam isolation valves (MSIVs). The proposed license amendments would revise Technical Specification 3.6.1.3, “Primary Containment Isolation Valves (PCIVs).” The amendments would decrease the leakage rate through each MSIV and the combined leakage rate through all four main steam lines.

Basis for proposed no significant hazards consideration determination: As required by 10 CFR 50.91(a), the licensee has provided its analysis of the issue of no significant hazards consideration, which is presented below:

1. Does the proposed amendment involve a significant increase in the probability or consequences of an accident previously evaluated?

Response: No.

The proposed change continues to use the main steam drain lines to direct MSIV leakage to the main condenser, although at a lower rate than is currently allowed. Therefore, the ALT Pathway takes advantage of the large volume of the steam lines and condenser to provide holdup and plate-out fission products that may leak through the closed MSIVs. Additionally, the main steam lines, main steam drain piping, and the main condenser continue to be used to mitigate the consequences of an accident to limit potential doses below the limits prescribed in 10 CFR 50.67(b)(2)(i) for the exclusion area, 10 CFR 50.67(b)(2)(ii) for the low population zone, and in 10 CFR 50.67(b)(2)(iii) for control room personnel.

The plant-specific radiological analysis has been re-evaluated to ensure that the effects of the increase in the condenser bypass flow and proposed decrease in MSIV leakage continues to maintain the acceptance criteria in terms of offsite doses and main control room dose. The analysis results comply with the dose limits prescribed in 10 CFR 50.67(b)(2)(i) for the exclusion area, 10 CFR 50.67(b)(2)(ii) for the low population zone, and in 10 CFR 50.67(b)(2)(iii) for control room personnel.

Therefore, the proposed change does not involve a significant increase in the probability or consequence of an accident previously evaluated.

2. Does the proposed amendment create the possibility of a new or different kind of accident from any accident previously evaluated?

Response: No.

The proposed change does not involve any physical changes to plant safety related systems, structures, and components (SSCs) or alter the modes of plant operation in a manner that is outside the bounds of the current alternate leakage treatment pathway. Because the safety and design requirements continue to be met and the integrity of the Reactor Coolant System (RCS) pressure boundary is not challenged, no new credible failure mechanisms, malfunctions, or accident initiators are created, and there will be no effect on the accident mitigating systems in a manner that would significantly degrade the plant's response to an accident.

Therefore, the proposed change does not create the possibility of a new or different kind of accident from any accident previously evaluated.

3. Does the proposed amendment involve a significant reduction in a margin of safety?

Response: No.

The proposed change to Surveillance Requirement 3.6.1.3.10, to decrease the allowable MSIV leakage, and increase the condenser bypass flow due to only crediting the passive ALT Pathway, does not involve a significant reduction in the margin of safety. The allowable leak rate specified for the MSIVs is used to quantify a maximum amount of leakage assumed to bypass containment. The results of the re-analysis supporting these changes were evaluated against the dose limits contained in 10 CFR 50.67(b)(2)(i) for the exclusion area, 10 CFR 50.67(b)(2)(ii) for the low population zone, and 10 CFR 50.67(b)(2)(iii) for control room personnel. Margin relative to the regulatory limits is maintained.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: General Counsel, Tennessee Valley Authority, 400 West Summit Hill Drive, 6A West Tower, Knoxville, Tennessee, 37902.

NRC Branch Chief: Jessie F. Quichocho.

Wolf Creek Nuclear Operating Corporation, Docket No. 50-482, Wolf Creek Generating Station, Coffey County, Kansas

Date of amendment request: August 13, 2013, as supplemented January 28, 2014. Publicly-available versions of the letters dated August 13, 2013, and January 28, 2014, are in ADAMS under Accession Nos. ML13247A076 and ML14035A224.

Description of amendment request: This amendment request contains sensitive unclassified non-safeguards information (SUNSI). The amendment would revise Safety Limits 2.1.1, “Reactor Core SLs;” Technical Specification (TS) 3.3.1, “Reactor Trip System (RTS) Instrumentation;” TS 3.3.2, “Engineered Safety Feature Actuation System (ESFAS) Instrumentation;” TS 3.3.5, “Loss of Power (LOP) Diesel Generator (DG) Start Instrumentation;” TS 3.4.1, “RCS Pressure, Temperature, and Flow Departure from Nucleate Boiling (DNB) Limits;” TS 3.7.1, “Main Steam Safety Valves (MSSVs);” and Specification 5.6.5, “CORE OPERATING LIMITS REPORT (COLR),” to replace the existing Wolf Creek Nuclear Operating Corporation (WCNOC) methodology for performing core design, non-loss-of-coolant-accident (non-LOCA) and LOCA safety analyses (for Post-LOCA Subcriticality and Cooling only) with standard Westinghouse developed and NRC-approved analysis methodologies. As part of the transition to the generic Westinghouse NRC-approved methodologies, instrumentation setpoint and control uncertainty calculations were performed based on the current Westinghouse Setpoint Methodology. This amendment request also includes the adoption of Option A of Technical Specification Task Force (TSTF) change traveler TSTF-493-A, Revision 4, “Clarify Application of Setpoint Methodology for LSSS [Limiting Safety System Setpoint] Functions.” In addition, the proposed amendment request revises the TS definitions of DOSE EQUIVALENT 1-131, and DOSE EQUIVALENT XE-133, and Specification 5.5.12, “Explosive Gas and Storage Tank Radioactivity Monitoring Program,” to revise the Wolf Creek Generating Station (WCGS) licensing basis by adopting the Alternative Source Term (AST) radiological analysis methodology in accordance with 10 CFR 50.67, “Accident source term.” This amendment request represents a full scope implementation of the AST as described in NRC Regulatory Guide (RG) 1.183, “Alternative Radiological Source Terms for Evaluating Design Basis Accidents at Nuclear Power Reactors,” Revision 0 (ADAMS Accession No. ML003716792). In conjunction with the full scope implementation of the AST, the proposed amendment request includes changes to adopt TSTF-51-A, Revision 2, “Revise Containment Requirements during Handling Irradiated Fuel and Core Alterations.” The adoption of TSTF-51-A results in changes to TS 3.3.6, “Containment Purge Isolation Instrumentation;” TS 3.3.7, “Control Room Emergency Ventilation System (CREVS) Actuation Instrumentation;” TS 3.3.8, “Emergency Exhaust System (EES) Actuation Instrumentation;” TS 3.7.10, “Control Room Emergency Ventilation System (CREVS);” TS 3.7.11, “Control Room Air Conditioning System (CRACS);” TS 3.7.13, “Emergency Exhaust System (EES);” and TS 3.9.4, “Containment Penetrations.”

Basis for proposed no significant hazards consideration determination: As required by 10 CFR 50.91(a), the licensee has provided its analysis of the issue of no significant hazards consideration, which is presented below:

1. Does the proposed amendment involve a significant increase in the probability or consequences of an accident previously evaluated?

Response: No.

The proposed changes associated with the implementation of Technical Specification Task Force (TSTF)-493-A adds test requirements to TS instrumentation functions related to those variables that have a significant safety function to ensure that instruments will function as required to initiate protective systems or actuate mitigating systems as assumed in the safety analysis. The proposed changes do not impact the condition or performance of any plant structure, system or component. The new core design, non-loss-of-coolant-accident (non-LOCA) and Post-LOCA Subcriticality and Cooling analyses and the proposed Nominal Trip Setpoints (NTSPs) will continue to ensure the applicable safety limits are not exceeded during any conditions of normal operation, for design basis accidents (DBAs) as well as any Anticipated Operational Occurrence (AOO). The methods used to perform the affected safety analyses, including the setpoint methodology are based on methods previously found acceptable by the NRC and conform to applicable regulatory guidance. Application of these NRC approved methods will continue to ensure that acceptable operating limits are established to protect the integrity of the Reactor Coolant System (RCS) and fuel cladding during normal operation, DBAs, and any AOOs. The TS changes associated with the implementation of TSTF-493-A will provide additional assurance that the instrumentation setpoints are maintained consistent with the setpoint methodology to ensure the required automatic trips and safety feature actuations occur such that the safety limits are not exceeded. The requested TS changes, including those changes proposed to conform to the new methodologies and TSTF-493-A do not involve any operational changes that could affect system reliability, performance, or the possibility of operator error. The proposed changes do not affect any postulated accident precursors, or accident mitigation systems, and do not introduce any new accident initiation mechanisms.

Adoptions of the AST and pursuant TS changes (including those changes resulting from the adoption of TSTF-51-A) and the changes to the atmospheric dispersion factors have no impact to the initiation of DBAs. Once the occurrence of an accident has been postulated, the new accident source term and atmospheric dispersion factors are an input to analyses that evaluate the radiological consequences. The proposed changes do not involve a revision to the design or manner in which the facility is operated that could increase the probability of an accident previously evaluated in Chapter 15 of the Updated Safety Analysis Report (USAR).

The structures, systems and components affected by the proposed changes act to mitigate the consequences of accidents. Based on the AST analyses, the proposed changes do revise certain performance requirements; however, the proposed changes do not involve a revision to the parameters or conditions that could contribute to the initiation of an accident previously discussed in Chapter 15 of the USAR. Plant specific radiological analyses have been performed using the AST methodology and new atmospheric dispersion factors. Based on the results of these analyses, it has been demonstrated that the control room dose consequences of the limiting events considered in the analyses meet the regulatory guidance provided for use with the AST, and the offsite doses are within acceptable limits. This guidance is presented in 10 CFR 50.67 and RG 1.183.

Therefore, the proposed change does not involve a significant increase in the probability or consequences of an accident previously evaluated.

2. Does the proposed amendment create the possibility of a new or different kind of accident from any previously evaluated?

Response: No.

The proposed change involves a physical alteration of the plant, i.e., a change in instrument setpoint. The proposed change does not create any new failure modes for existing equipment or any new limiting single failures. Additionally the proposed change does not involve a change in the methods governing normal plant operation and all safety functions will continue to perform as previously assumed in accident analyses. Thus, the proposed change does not adversely affect the design function or operation of any structures, systems, and components important to safety. The proposed change does not involve changing any accident initiators.

Implementation of AST and the associated proposed TS changes and new atmospheric dispersion factors do not alter or involve any design basis accident initiators and do not involve a physical alteration of the plant (no new or different type of equipment will be installed). The proposed change does not adversely affect the design function or mode of operations of structures, systems and components in the facility important to safety. The structures, systems and components important to safety will continue to operate in the same manner as before after the AST is implemented, therefore, no new failure modes are created by this proposed change. The AST change does not involve changing any accident initiators.

For the fuel handling accident, the adoption of TSTF-51-A permits the elimination of the TS requirements for certain Engineered Safety Feature (ESF) systems to be OPERABLE after sufficient radioactive decay. However, after sufficient radioactive decay, no credit is taken for these ESF systems to meet the applicable regulatory dose limits in the event of a fuel handling accident. Therefore, no structures, systems and components important to safety are adversely affected by the proposed change. The proposed change resulting from the adoption of TSTF-51-A does not involve changing any accident initiators.

Therefore, the proposed change does not create the possibility of a new or different kind of accident from any accident previously evaluated.

3. Does the proposed amendment involve a significant reduction in a margin of safety?

Response: No.

The proposed methodology changes and implementation of TSTF-493-A will not adversely affect the operation of plant equipment or the function of equipment assumed in the accident analysis. The proposed changes do not adversely affect the design and performance of the structures, systems, and components important to safety. Therefore, the required safety functions will continue to be performed consistent with the assumptions of the applicable safety analyses. In addition, operation in accordance with the proposed TS change will continue to ensure that the previously evaluated accidents will be mitigated as analyzed. The NRC approved safety analysis methodologies include restrictions on the choice of inputs, the degree of conservatism inherent in the calculations, and specified event acceptance criteria. Analyses performed in accordance with these methodologies will not result in adverse effects on the regulated margin of safety. As such, there is no significant reduction in a margin of safety.

The results of the AST analyses are subject to the acceptance criteria in 10 CFR 50.67. The analyzed events have been carefully selected, and the analyses supporting these changes have been performed using approved methodologies to ensure that analyzed events are bounding and safety margin has not been reduced. The dose consequences of these limiting events are within the acceptance criteria presented in 10 CFR 50.67 and RG 1.183. Thus, by meeting the applicable regulatory limits for AST, there is no significant reduction in a margin of safety. New control room atmospheric dispersion factors (x/Qs) based on site specific meteorological data, calculated in accordance with the guidance of RG 1.194, utilizes more recent data and improved calculation methodologies.

For the fuel handling accident, the adoption of TSTF-51-A allows the elimination of the TS requirements for certain ESF systems to be OPERABLE, after sufficient radioactive decay. However, after sufficient radioactive decay, no credit is taken for these ESF systems to meet the applicable regulatory dose limits in the event of a fuel handling accident. Therefore, no structures, systems and components important to safety are adversely affected by the proposed change. With the proposed changes, the requirements of the TS will reflect that after sufficient radioactive decay, the water level and decay time inputs will be the primary success path for mitigating a fuel handling accident. Thus, the TS will continue to provide adequate assurance of safe operation during fuel handling. As such, there is no significant reduction in a margin of safety.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Jay Silberg, Esq., Pillsbury Winthrop Shaw Pittman LLP, 2300 N Street, NW., Washington, DC 20037.

NRC Branch Chief: Michael T. Markley.

Order Imposing Procedures for Access to Sensitive Unclassified Non-Safeguards Information for Contention Preparation

Energy Northwest, Docket No. 50-397, Columbia Generating Station, Benton County, Washington

Luminant Generation Company LLC, Docket Nos. 50-445 and 50-446, Comanche Peak Nuclear Power Plant, Units 1 and 2, Somervell County, Texas

Omaha Public Power District, Docket No. 50-285, Fort Calhoun Station, Unit 1, Washington County, Nebraska

STP Nuclear Operating Company, Docket Nos. 50-498 and 50-499, South Texas Project, Units 1 and 2, Matagorda County, Texas

Tennessee Valley Authority, Docket Nos. 50-259, 50-260, and 50-296, Browns Ferry Nuclear Plant, Units 1, 2, and 3, Limestone County, Alabama

Wolf Creek Nuclear Operating Corporation, Docket No. 50-482, Wolf Creek Generating Station, Coffey County, Kansas

Order Imposing Procedures for Access to Sensitive Unclassified Non-Safeguards Information for Contention Preparation

A. This Order contains instructions regarding how potential parties to this proceeding may request access to documents containing SUNSI.

B. Within 10 days after publication of this notice of hearing and opportunity to petition for leave to intervene, any potential party who believes access to SUNSI is necessary to respond to this notice may request such access. A “potential party” is any person who intends to participate as a party by demonstrating standing and filing an admissible contention under 10 CFR 2.309. Requests for access to SUNSI submitted later than 10 days after publication of this notice will not be considered absent a showing of good cause for the late filing, addressing why the request could not have been filed earlier.

C. The requester shall submit a letter requesting permission to access SUNSI to the Office of the Secretary, U.S. Nuclear Regulatory Commission, Washington, DC 20555-0001, Attention: Rulemakings and Adjudications Staff, and provide a copy to the Associate General Counsel for Hearings, Enforcement and Administration, Office of the General Counsel, Washington, DC 20555-0001. The expedited delivery or courier mail address for both offices is: U.S. Nuclear Regulatory Commission, 11555 Rockville Pike, Rockville, Maryland, 20852. The email address for the Office of the Secretary and the Office of the General Counsel are Hearing.Docket@nrc.gov and OGCmailcenter@nrc.gov, respectively.¹ The request must include the following information:

¹ While a request for hearing or petition to intervene in this proceeding must comply with the filing requirements of the NRC's “E-Filing Rule,” the initial request to access SUNSI under these procedures should be submitted as described in this paragraph.

(1) A description of the licensing action with a citation to this Federal Register notice;

(2) The name and address of the potential party and a description of the potential party's particularized interest that could be harmed by the action identified in C.(1); and

(3) The identity of the individual or entity requesting access to SUNSI and the requester's basis for the need for the information in order to meaningfully participate in this adjudicatory proceeding. In particular, the request must explain why publicly-available versions of the information requested would not be sufficient to provide the basis and specificity for a proffered contention.

D. Based on an evaluation of the information submitted under paragraph C.(3) the NRC staff will determine within 10 days of receipt of the request whether:

(1) There is a reasonable basis to believe the petitioner is likely to establish standing to participate in this NRC proceeding; and

(2) The requestor has established a legitimate need for access to SUNSI.

E. If the NRC staff determines that the requestor satisfies both D.(1) and D.(2) above, the NRC staff will notify the requestor in writing that access to SUNSI has been granted. The written notification will contain instructions on how the requestor may obtain copies of the requested documents, and any other conditions that may apply to access to those documents. These conditions may include, but are not limited to, the signing of a Non-Disclosure Agreement or Affidavit, or Protective Order ² setting forth terms and conditions to prevent the unauthorized or inadvertent disclosure of SUNSI by each individual who will be granted access to SUNSI.

² Any motion for Protective Order or draft Non-Disclosure Affidavit or Agreement for SUNSI must be filed with the presiding officer or the Chief Administrative Judge if the presiding officer has not yet been designated, within 30 days of the deadline for the receipt of the written access request.

F. Filing of Contentions. Any contentions in these proceedings that are based upon the information received as a result of the request made for SUNSI must be filed by the requestor no later than 25 days after the requestor is granted access to that information. However, if more than 25 days remain between the date the petitioner is granted access to the information and the deadline for filing all other contentions (as established in the notice of hearing or opportunity for hearing), the petitioner may file its SUNSI contentions by that later deadline. This provision does not extend the time for filing a request for a hearing and petition to intervene, which must comply with the requirements of 10 CFR 2.309.

G. Review of Denials of Access.

(1) If the request for access to SUNSI is denied by the NRC staff after a determination on standing and need for access, the NRC staff shall immediately notify the requestor in writing, briefly stating the reason or reasons for the denial.

(2) The requester may challenge the NRC staff's adverse determination by filing a challenge within 5 days of receipt of that determination with: (a) The presiding officer designated in this proceeding; (b) if no presiding officer has been appointed, the Chief Administrative Judge, or if he or she is unavailable, another administrative judge, or an administrative law judge with jurisdiction pursuant to 10 CFR 2.318(a); or (c) if another officer has been designated to rule on information access issues, with that officer.

H. Review of Grants of Access. A party other than the requester may challenge an NRC staff determination granting access to SUNSI whose release would harm that party's interest independent of the proceeding. Such a challenge must be filed with the Chief Administrative Judge within 5 days of the notification by the NRC staff of its grant of access.

If challenges to the NRC staff determinations are filed, these procedures give way to the normal process for litigating disputes concerning access to information. The availability of interlocutory review by the Commission of orders ruling on such NRC staff determinations (whether granting or denying access) is governed by 10 CFR 2.311.³

³ Requesters should note that the filing requirements of the NRC's E-Filing Rule (72 FR 49139; August 28, 2007), apply to appeals of NRC staff determinations (because they must be served on a presiding officer or the Commission, as applicable), but not to the initial SUNSI request submitted to the NRC staff under these procedures.

I. The Commission expects that the NRC staff and presiding officers (and any other reviewing officers) will consider and resolve requests for access to SUNSI, and motions for protective orders, in a timely fashion in order to minimize any unnecessary delays in identifying those petitioners who have standing and who have propounded contentions meeting the specificity and basis requirements in 10 CFR Part 2. Attachment 1 to this Order summarizes the general target schedule for processing and resolving requests under these procedures.

It is so ordered.

Dated at Rockville, Maryland, this 20th day of March, 2014.
For the Nuclear Regulatory Commission.
Annette L. Vietti-Cook,
Secretary of the Commission.

Attachment 1—General Target Schedule for Processing and Resolving Requests for Access to Sensitive Unclassified Non-Safeguards Information in this Proceeding
Day | Event/activity
0 | Publication of Federal Register notice of hearing and opportunity to petition for leave to intervene, including order with instructions for access requests.
10 | Deadline for submitting requests for access to Sensitive Unclassified Non-Safeguards Information (SUNSI) with information: supporting the standing of a potential party identified by name and address; describing the need for the information in order for the potential party to participate meaningfully in an adjudicatory proceeding.
60 | Deadline for submitting petition for intervention containing: (i) Demonstration of standing; and (ii) all contentions whose formulation does not require access to SUNSI (+25 Answers to petition for intervention; +7 petitioner/requestor reply).
20 | U.S. Nuclear Regulatory Commission (NRC) staff informs the requester of the staff's determination whether the request for access provides a reasonable basis to believe standing can be established and shows need for SUNSI. (NRC staff also informs any party to the proceeding whose interest independent of the proceeding would be harmed by the release of the information.) If NRC staff makes the finding of need for SUNSI and likelihood of standing, NRC staff begins document processing (preparation of redactions or review of redacted documents).
25 | If NRC staff finds no “need” or no likelihood of standing, the deadline for petitioner/requester to file a motion seeking a ruling to reverse the NRC staff's denial of access; NRC staff files copy of access determination with the presiding officer (or Chief Administrative Judge or other designated officer, as appropriate). If NRC staff finds “need” for SUNSI, the deadline for any party to the proceeding whose interest independent of the proceeding would be harmed by the release of the information to file a motion seeking a ruling to reverse the NRC staff's grant of access.
30 | Deadline for NRC staff reply to motions to reverse NRC staff determination(s).
40 | (Receipt +30) If NRC staff finds standing and need for SUNSI, deadline for NRC staff to complete information processing and file motion for Protective Order and draft Non-Disclosure Affidavit. Deadline for applicant/licensee to file Non-Disclosure Agreement for SUNSI.
A | If access granted: issuance of presiding officer or other designated officer decision on motion for protective order for access to sensitive information (including schedule for providing access and submission of contentions) or decision reversing a final adverse determination by the NRC staff.
A + 3 | Deadline for filing executed Non-Disclosure Affidavits. Access provided to SUNSI consistent with decision issuing the protective order.
A + 28 | Deadline for submission of contentions whose development depends upon access to SUNSI. However, if more than 25 days remain between the petitioner's receipt of (or access to) the information and the deadline for filing all other contentions (as established in the notice of hearing or opportunity for hearing), the petitioner may file its SUNSI contentions by that later deadline.
A + 53 | (Contention receipt +25) Answers to contentions whose development depends upon access to SUNSI.
A + 60 | (Answer receipt +7) Petitioner/Intervenor reply to answers.
>A + 60 | Decision on contention admission.

[FR Doc. 2014-06784 Filed 4-7-14; 8:45 am]

BILLING CODE 7590-01-P